NATIONAL CREDIT UNION ADMINISTRATION

Sunshine Act; Notice of a Matter To Be Added to the Agenda for Consideration at an Agency Meeting

Federal Register Citation of Previous Announcement: April 18, 2016 (81 FR 22650).

Time and Date: 11:15 a.m., Thursday, April 21, 2016.

Place: Board Room, 7th Floor, Room 7047, 1775 Duke Street, Alexandria, VA 22314-3428.

Status: Closed.

Pursuant to the provisions of the “Government in Sunshine Act” notice is hereby given that the NCUA Board gave previous notice of the regular meeting of the NCUA Board scheduled for April 21, 2016. Prior to the meeting, on April 20, 2016, with less than seven days' notice to the public, the NCUA Board unanimously determined that agency business required changing the previously announced closed meeting time from 11:15 a.m. to 9:00 a.m. No earlier notice of the change was possible.

Revised Time: 9:00 a.m., Thursday, April 21, 2016.

FOR FURTHER INFORMATION CONTACT: Gerard Poliquin, Secretary of the Board, Telephone: 703-518-6304.

Gerard Poliquin,
Secretary of the Board.

[FR Doc. 2016-09505 Filed 4-20-16; 4:15 pm]

BILLING CODE 7535-01-P